DEPARTMENT OF DEFENSE

Office of the Secretary

[Docket ID: DOD-2010-OS-0124]

Privacy Act of 1974; System of Records

AGENCY: Defense Information Systems Agency, DoD.

ACTION: Notice to add a system of records.

SUMMARY: The Defense Information Systems Agency is proposing to add a system of records to its inventory of record systems subject to the Privacy Act of 1974, (5 U.S.C. 552a), as amended.

DATES: This proposed action will be effective without further notice on October 22, 2010, unless comments are received which result in a contrary determination.

ADDRESSES: You may submit comments, identified by docket number and title, by any of the following methods:

• Federal Rulemaking Portal: http://www.regulations.gov. Follow the instructions for submitting comments.

• Mail: Federal Docket Management System Office, Room 3C843 Pentagon, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Jeanette M. Weathers-Jenkins at (703) 681-2409.

SUPPLEMENTARY INFORMATION: The Defense Information Systems Agency system of records notices subject to the Privacy Act of 1974, (5 U.S.C. 552a), as amended, have been published in the Federal Register and are available from the Defense Information Systems Agency, 5600 Columbia Pike, Room 933-I, Falls Church, VA 22041-2705.

The proposed system report, as required by 5 U.S.C. 552a (r), of the Privacy Act of 1974, as amended, was submitted on September 13, 2010, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996; 61 FR 6427).

Dated: September 17, 2010.
Mitchell S. Bryman,
Alternate OSD Federal Register Liaison Officer, Department of Defense.

K890.13

System Name:

Security Container Information

System Location:

Security Branch, Arlington Service Center, Code MPS, Center for Agency Services, Defense Information Systems Agency, 701 South Courthouse Road, Arlington, VA 22204-2199.

Office of Security Officer, Headquarters, Defense Information Systems Agency-Europe, APO AE 09131-4103.

Headquarters, Defense Information Systems Agency-Pacific, Wheeler AFB, HI 96854-5000.

Categories of Individuals Covered by the System:

Persons who have been designated for access to the containers and who may be contacted for access in case of emergency.

Categories of Records in the System:

Security container information to include location, container number, lock serial number, name, address and phone number of the responsible person if found open or unattended.

Authority for Maintenance of the System:

5 U.S.C. 301, Departmental Regulation; E.O. 10450, Security Requirements for Government Employees; and E.O. 12958, Classified National Security Information.

Purpose(s):

Used to maintain current designation of persons who may be contacted for access to a security container.

Routine Uses of Records Maintained in the System, Including Categories of Users and the Purposes of Such Uses:

In addition to those disclosures generally permitted under 5 U.S.C. 552a(b) of the Privacy Act of 1974, these records contained therein may specifically be disclosed outside the DoD as a routine use pursuant to 5 U.S.C. 552a(b)(3) as follows:

The DoD ‘Blanket Routine Uses’ set forth at the beginning of the DISA's compilation of systems of records notices apply to this system.

Policies and Practices for Storing, Retrieving, Accessing, Retaining, and Disposing of Records in the System:

Storage:

Paper records in locked file cabinets and electronic storage media.

Retrievability:

Information is retrieved by name of individual.

Safeguards:

Buildings are secured by guards during duty and non-duty hours. Access to records is controlled by management personnel, who are responsible for maintaining the confidentiality of the records and using the information contained therein only for official purposes. Access to personal information is restricted to those who require the records in the performance of their official duties. Access to personal information is further restricted by the use of Common Access Card (CAC) certification.

Retention and Disposal:

Forms are renewed every six months or when any individual having access to the container departs and then destroyed.

System Manager(s) and Address:

Security Branch, Arlington Service Center, Code MPS, Center for Agency Services, Defense Information Systems Agency, 701 South Courthouse Road, Arlington, VA 22204-2199.

Office of Security Officer, Headquarters, Defense Information Systems Agency-Europe, APO AE 09131-4103.

Headquarters, Defense Information Systems Agency-Pacific, Wheeler AFB, HI 96854-5000.

Notification Procedure:

Individuals seeking to determine whether information about themselves is contained in this system of records should address written inquiries to the appropriate system manager.

The full name of the requesting individual will be required to determine if the system contains a record about him or her. The requester may also visit one of the system managers listed. As proof of identity the requester must present a current DISA identification badge or a driver's license.

Record Access Procedures:

Individuals seeking access to information about themselves contained in this system of records should address written inquiries to the appropriate system manager.

The full name of the requesting individual will be required to determine if the system contains a record about him or her. The requester may also visit one of the system managers listed. As proof of identity the requester must present a current DISA identification badge or a driver's license.

Contesting Record Procedures:

DISA's rules for accessing records, for contesting contents and appealing initial agency determinations are published in DISA Instruction 210-225-2 at 32 CFR part 316 or may be obtained from the system manager.

Record Source Categories:

Individuals designated by Division Supervisors.

Exemptions Claimed for the System:

None.

[FR Doc. 2010-23651 Filed 9-21-10; 8:45 am]

BILLING CODE 5001-06-P